DEPARTMENT OF HOMELAND SECURITY

Coast Guard

[Docket No. USCG-2021-2039]

National Offshore Safety Advisory Committee; Vacancy

AGENCY: Coast Guard, Department of Homeland Security.

ACTION: Request for applications; re-solicitation for a member representing individuals employed in offshore operations.

SUMMARY: The Coast Guard is re-soliciting applications from persons interested in membership on the National Offshore Safety Advisory Committee (Committee) to fill a vacant position representing individuals employed in offshore operations. This recently established Committee will advise the Secretary of the Department of Homeland Security on matters relating to activities directly involved with, or in support of, the exploration of offshore mineral and energy resources, to the extent that such matters are within the jurisdiction of the Coast Guard.

DATES: Your completed application should reach the Coast Guard on or before February 11, 2022.

ADDRESSES: Applications should include a cover letter expressing interest in an appointment to the Committee and a resume detailing their experience along with a brief biography. Applications should be submitted: Via email with subject line “Application for NOSAC” to Mr. Patrick Clark at Patrick.W.Clark@uscg.mil.

FOR FURTHER INFORMATION CONTACT: Mr. Patrick W. Clark, Designated Federal Officer of the National Offshore Safety Advisory Committee; Telephone 202-372-1358; or Email at Patrick.W.Clark@uscg.mil.

SUPPLEMENTARY INFORMATION: On March 17, 2020, the Coast Guard published a request in the Federal Register (85 FR 15211) for applications for membership in the National Offshore Safety Advisory Committee. The Coast Guard is re-soliciting applications from persons interested in membership on the National Offshore Safety Advisory Committee to represent the viewpoint of individuals employed in offshore operations. Applicants who responded to the previous notices do not need to reapply.

The National Offshore Safety Advisory Committee is a Federal advisory committee. It will operate under the provisions of the Federal Advisory Committee Act (5 U.S.C. Appendix), and the administrative provisions in § 601 of the Frank LoBiondo Coast Guard Authorization Act of 2018 (specifically, 46 U.S.C. 15109).

The Committee was established on December 4, 2018, by § 601 of the Frank LoBiondo Coast Guard Authorization Act of 2018, Public Law 115-282, 132 Stat. 4192 and amended by § 8331 of the Elijah E. Cummings Coast Guard Authorization Act of 2020, Public Law 116-283. That authority is codified in 46 U.S.C. 15106. The Committee will advise the Secretary of Homeland Security on matters relating to activities directly involved with, or in support of, the exploration of offshore mineral and energy resources, to the extent that such matters are within the jurisdiction of the Coast Guard.

The Committee is required to meet at least once a year in accordance with 46 U.S.C. 15109(a). We expect the Committee to meet at least twice a year, but it may meet more frequently. The meetings are generally held in cities that have high concentrations of maritime personnel and related marine industry businesses.

All members serve at their own expense and receive no salary or other compensation from the Federal Government.

Under the provisions in 46 U.S.C. 15109(f)(6), if you are appointed as a member of the Committee, your membership term will expire on December 31st of the third full year after the effective date of your appointment. The Secretary may require an individual to have passed an appropriate security background examination before appointment to the Committee, 46 U.S.C. 15109(f)(4).

While there are two positions on the advisory committee representing the viewpoints of individuals employed in offshore operations, there is currently only one vacancy.

The Department of Homeland Security does not discriminate in selection of Committee members based on race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, email your cover letter and resume along with the brief biography to Patrick W. Clark, Designated Federal Officer of the National Offshore Safety Advisory Committee, via the transmittal method provided in the ADDRESSES section by the deadline in the DATES section of this notice.

Date: December 2, 2021.
Jeffrey G. Lantz,
Director of Commercial Regulations and Standards.

[FR Doc. 2021-26867 Filed 12-10-21; 8:45 am]

BILLING CODE 9110-04-P